DEPARTMENT OF TRANSPORTATION

Federal Aviation Administration

Noise Compatibility Program for Fort Worth Alliance Airport, Tarrant County, Texas

AGENCY: Federal Aviation Administration, DOT.

ACTION: Notice of acceptance of a noise exposure map.

SUMMARY: The Federal Aviation Administration (FAA) announces its determination that the noise exposure map submitted by City of Fort Worth for Fort Worth Alliance Airport is in compliance with applicable statuary and regulatory requirements.

DATES: The effective date of the FAA's determination on the noise exposure map is December 23, 2021.

FOR FURTHER INFORMATION CONTACT: Dean McMath, 10101 Hillwood Parkway, Fort Worth, Texas 76177, 817-222-5617.

SUPPLEMENTARY INFORMATION: The FAA determined the noise exposure map submitted by City of Fort Worth for Fort Worth Alliance Airport, is in compliance with applicable statutory and regulatory requirements, effective December 23, 2021. Under Title 49 United States Code (U.S.C.) section 47503 of the Aviation Safety and Noise Abatement Act (hereinafter referred to as “the Act”), an airport operator may submit to the FAA, noise exposure maps depicting non-compatible uses as of the date such map is submitted, a description of estimated aircraft operations during a forecast period that is at least five years in the future and how those operations will affect the map. A noise exposure map must be prepared in accordance with Title 14 Code of Federal Regulations (CFR) part 150, the regulations promulgated pursuant to section 47502 of the Act, and developed in consultation with public agencies and planning authorities in the area surrounding the airport, state and Federal agencies, interested and affected parties in the local community, and aeronautical users of the airport. In addition, an airport operator that submitted a noise exposure map, which the FAA determined is compliant with statutory and regulatory requirements, may submit a noise compatibility program for FAA approval that sets forth measures the operator has taken or proposes to take to reduce existing non-compatible uses and prevent the introduction of additional non-compatible uses.

The FAA completed its review of the noise exposure map and supporting documentation submitted by City of Fort Worth and determined the noise exposure map and accompanying documentation are in compliance with applicable requirements. The documentation that constitutes the Noise Exposure Map includes: Table 3.4 Existing Aircraft Operations; Table 3.8 Existing and Forecast Annual Operations; Table 4.5 Day/Night Operations by Aircraft Category; Table 4.6 Runway Utilization by Aircraft Category; Figure 3.2 Airport Layout Plan; Figure 4.1 North Flow Flight Tracks; Figure 4.2 South Flow Flight Tracks. This determination is effective on December 23, 2021. FAA's determination on an airport's noise exposure map is limited to a finding that the noise exposure map was developed in accordance with the Act and procedures contained in 14 CFR part 150, Appendix A. FAA's acceptance of an NEM does not does not constitute approval of the applicant's data, information or plans, or a commitment to approve a noise compatibility program or to fund the implementation of that program. If questions arise concerning the precise relationship of specific properties within noise exposure contours depicted on a noise exposure map, it should be noted that the FAA is not involved in any way in determining the relative locations of specific properties with regard to the depicted noise contours or in interpreting the noise exposure maps to resolve questions concerning, for example, which properties should be covered by the provisions of section 47506 of the Act. These functions are inseparable from the ultimate land use control and planning responsibilities of local government. These local responsibilities are not changed in any way under 14 CFR part 150 or through FAA review and acceptance of a noise exposure map. Therefore, the responsibility for the detailed overlaying of noise exposure contours onto the map depicting properties on the surface rests exclusively with the airport operator that submitted a noise exposure map or with those public and planning agencies with which consultation is required under section 47503 of the Act. The FAA relied on the certification by the airport operator, under of 14 CFR 150.21 that the required consultations and opportunity for public review has been accomplished during the development of the noise exposure maps. Copies of the noise exposure map and supporting documentation and the FAA's evaluation of the noise exposure maps are available for examination at the following locations: Federal Aviation Administration Federal Aviation Administration ASW-600, 10101 Hillwood Parkway, Fort Worth, Texas 76177 and City of Fort Worth Aviation Department, 201 American Concourse #330, Fort Worth, Texas 76106. Questions may be directed to the individual listed in the For Further Information Contact section of this notice.

Issued in Fort Worth, Texas on December 23, 2021.
D. Cameron Bryan,
Deputy Director, Airports Division.

[FR Doc. 2021-28451 Filed 12-30-21; 8:45 am]

BILLING CODE 4910-13-P